ENVIRONMENTAL PROTECTION AGENCY

[ER-FRL-6681-1]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167.

An explanation of the ratings assigned to draft environmental impact statements (EISs) was published in the FR dated April 7, 2006 (71 FR 17845).

Draft EISs

EIS No. 20060366, ERP No. D1-COE-D39028-00, Mid-Chesapeake Bay Island Ecosystem Restoration Integrated Feasibility Study, Using Uncontaminated Dredged Material from the Upper Chesapeake Bay Approach Channels to the Port of Baltimore to Restore and Protect Island Habitat in the Middle Portion of Chesapeake Bay, Dorchester County, MD.

Summary: EPA does not object to the proposed action.

Rating LO. EIS No. 20060284, ERP No. D-FHW-E40808-KY, I-66 Somerset to London Project, Construction from the Vicinity of the Northern Bypass (I-66) in Somerset, KY to I-75 between London and Corbin Cities, Pulaski, U.S. Army COE Section 404 Permit, Rockcastle and Laurel Counties, KY.

Summary: EPA expressed environmental concerns about impacts to wetlands, karst features and associated water resources, stream and river crossings, and potential construction-related impacts to the Daniel Boone National Forest. Rating EC2.

EIS No. 20060356, ERP No. D-COE-F32198-00, Lock and Dam 3 Mississippi River Navigation Safety and Embankments, To Reduce Related Navigation Safety and Embankment Problems, Upper Mississippi River, Goodhue County, MN and Pierce County, WI.

Summary: EPA expressed environmental concerns about the proposed mitigation for impacts to forested floodplains and water quality, and requested additional information regarding the analysis of cumulative impacts. Rating EC2.

EIS No. 20060358, ERP No. D-AFS-K39101-CA, Lake Davis Pike Eradication Project, To Eradicate Pike and Re-Establish Trout Fishery in the Tributaries, Special-Use-Permit, Plumas National Forest, Plumas County, CA.

Summary: EPA expressed environmental concerns about drinking water impacts, the possible presence of toxic blue-green algae, discharge permit requirements, neutralization options, and the overall effectiveness of the eradication project. Rating EC2.

EIS No. 20060368, ERP No. D-NSF-K99036-HI, Advanced Technology Solar Telescope Project, Construction of Site at the University of Hawaii Institute for Astronomy, Haleakala High Altitude Observatory (HO) Site, Island of Maui, HI.

Summary: EPA expressed environmental concerns about impacts to cultural resources, Native Hawaiians, Haleakala National Park, and endangered species. Rating EC2.

EIS No. 20060337, ERP No. DS-COE-E39051-FL, Lake Okeechobee Regulation Schedule Study, Updated Information on Operational Changes to the Current Water Control Plan, Caloosahatchee and St. Lucie River Estuaries, Lake Okeechobee, FL.

Summary: EPA commented that the interim schedule will need to be re-evaluated in 2010 when additional storage areas are in place, and requested clarification regarding the existing conditions of Lake Okeechobee and estuaries, as well as the potential effects of the proposed new schedule on Total Maximum Daily Load (TMDL) goals. Rating EC1.

Final EISs

EIS No. 20060381, ERP No. F-AFS-D65032-WV, Programmatic—Monongahela National Forest Plan Revision, Proposes to Revise Land and Resource Management Plan, Barbour, Grant, Greenbrier, Nicholas, Pendleton, Pocahontab, Preston, Randolph, Tucker and Webster Counties, WV.

Summary: EPA continues to have environment concerns about impacts caused by commercial/recreational activities and fragmentation from roadways.

EIS No. 20060382, ERP No. F-BLM-K65291-00, Lake Havasu Field Office Resource Management Plan, Implementation, Colorado River, Davis Dam in the north and south to Park Dam, CA and AZ.

Summary: EPA does not object to the project as proposed.

EIS No. 20060387, ERP No. F-AFS-J65451-UT, West Fork Blacks Fork Allotment Management Plan, Proposes to Authorize Continued Livestock Grazing, Township 1 North, Range 11 East, Salt Lake Principle Meridan, Evanston Ranger District, Wasatch-Cache National Forest, Summit County, UT.

Summary: EPA's previous concerns have been resolved; therefore, EPA does not object to the proposed action.

EIS No. 20060391, ERP No. F-NRC-F06028-MN, Generic—License Renewal of Nuclear Plants, Supplement 26 to NUREG 1437, Regarding Monticello Nuclear Generating Plant (TAC NO. MC6441) Renewal of Operating License DRP-22 for Additional 20-Years of Operation, Mississippi River, City of Monticello, Wright County, MN.

Summary: EPA's previous concerns have been resolved; therefore, EPA does not object to the proposed action.

EIS No. 20060393, ERP No. F-COE-H36111-00, Kansas City's Levees, Missouri and Kansas Flood Damage Reduction Study, Improvements to the Existing Line of Protection, Birmingham, Jackson, Clay Counties, MO and Wyandotte County, KS.

Summary: No formal comment letter was sent to the preparing agency.

EIS No. 20060397, ERP No. F-NAS-A12044-00, Programmatic—Development of Advanced Radioisotope Power Systems, Two New Advanced RPS's: Multi-Mission Radioisotope Thermoelectric Generator (MMRTG) and Stirling Radioisotope Generator (SRG).

Summary: EPA does not object to the proposed action.

EIS No. 20060404, ERP No. F-SFW-L64052-AK, Kodiak National Wildlife Refuge, Draft Revised; Comprehensive Conservation Plan, Implementation, AK.

Summary: EPA does not object to the proposed action.

EIS No. 20060240, ERP No. FS-AFS-L65400-ID, West Gold Creek Project, Updated Information, Forest Management Activities Plan, Implementation, Idaho Panhandle National Forests, Sandpoints Ranger District, Bonner County, ID.

Summary: EPA does not object to the proposed action.

EIS No. 20060386, ERP No. FS-AFS-F65034-WI, Northwest Howell Vegetation Management Project, New Information to Address Inadequate Disclosure of the Cumulative Effects Analysis for Six Animal and Two Plant Species, Eagle River-Florence Ranger District, Chequamegon-Nicole National Forest, Florence and Forest Counties, WI.

Summary: EPA does not object to the proposed action.

EIS No. 20060424, ERP No. FS-FRC-C05146-00, Northeast (NE)-07 Project, Construction and Operation of a Natural Gas Pipeline Facilities, Millennium Pipeline Project—Phase I, U.S. Army COE Section 10 and 404 Permits, several counties, NY, Morris County, NJ; Fairfield and New Haven Counties, CT.

Summary: EPA does not object to the proposed action.

Dated: November 6, 2006.
Robert W. Hargrove,
Director, NEPA Compliance Division, Office of Federal Activities.

[FR Doc. E6-19022 Filed 11-8-06; 8:45 am]

BILLING CODE 6560-50-P